DEPARTMENT OF COMMERCE

National Institute of Standards and Technology

Proposed Information Collection; Comment Request; Manufacturing Extension Partnership Program Management Information Reporting System for the Business and Talent Management Self-Diagnostic

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 10, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to Stacey Wagner, Stacey.wagner@nist.gov, 301-975-4850.

SUPPLEMENTARY INFORMATION:

I. Abstract

The Manufacturing Extension Partnership (MEP), sponsored by the National Institute of Standards and Technology (NIST), is a national network of locally-based manufacturing extension centers working with small manufacturers to assist them improve productivity, improve profitability, and enhance their economic competitiveness. In order for small and medium-sized manufacturers to understand the systemic alignment between their business goals and workforce investments, they will need to compare their internal business goals/targets and their talent management efforts. By comparing their own internal data that reflects all of their business strategies, small and medium-sized manufacturers will understand how aligned their workforce skills are with their business investments and execution. This self-diagnostic service will be offered by MEP centers to their manufacturing clients. The results of the service information will enable the NIST MEP to provide systematic business analysis assistance to their clients.

II. Method of Collection

The information will be collected from the NIST-hosted web application via the MEP Web site at www.smartalent.gov using a password-protected interface.

III. Data

OMB Control Number: None.

Form Number: None.

Type of Review: Regular submission (new information collection).

Affected Public: Business or other for-profit organizations.

Estimated Number of Respondents: 600.

Estimated Time per Response: 30 minutes.

Estimated Total Annual Burden Hours: 300.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 8, 2014.
Gwellnar Banks,
Management Analyst, Office of the Chief Information Officer.

[FR Doc. 2014-08196 Filed 4-10-14; 8:45 am]

BILLING CODE 3510-13-P